DEPARTMENT OF LABOR

Office of the Secretary

Job Corps: Preliminary Finding of No Significant Impact (FONSI) for the Proposed Job Corps Center Located at College Avenue and 6th Street, Ottumwa, IA

AGENCY: Office of the Secretary, Department of Labor.

ACTION: Preliminary Finding of No Significant Impact (FONSI) for the proposed Job Corps Center to be Located at College Avenue and 6th Street, Ottumwa, Iowa.

SUMMARY: Pursuant to the Council on Environmental Quality Regulations (40 CFR part 1500-08) implementing procedural provisions of the National Environmental Policy Act (NEPA), the Department of Labor, Office of the Secretary (OSEC) in accordance with 29 CFR 11.11(d), gives notice that an Environmental Assessment (EA) has been prepared for a proposed new Job Corps Center to be located in Ottumwa, Iowa and that the proposed plan for a new Job Corps Center will have no significant environmental impact. This Preliminary Finding of No Significant Impact (FONSI) will be made available for public review and comment for a period of 30 days.

DATES: Comments must be submitted by February 15, 2008.

ADDRESSES: Any comment(s) are to be submitted to Edward C. Campbell, Realty Officer Department of Labor, 200 Constitution Avenue, NW., Room N-4460, Washington, DC 20210, (202) 693-2834 (this is not a toll-free number).

FOR FURTHER INFORMATION CONTACT: Copies of the EA are available to interested parties by contacting Michael F. O'Malley, Architect, Unit Chief of Facilities, National Office of Job Corps, U.S. Department of Labor, 200 Constitution Avenue, NW., Room N-4460, Washington, DC 20210, (202) 693-3108 (this is not a toll-free number).

SUPPLEMENTARY INFORMATION: The subject property for the proposed Job Corps Center (JCC) consists of 28.68 acres of undeveloped land, owned by Indian Hills Community College. The subject property is located east of the College Avenue and 6th Street intersection approximately five miles north of downtown Ottumwa in an unincorporated area of Wapello County, Iowa. The property is located at the eastern edge of the Ottumwa Industrial Airport district which is characterized by industrial and commercial uses, as well as vacant land used primarily for row crop farming.

The proposed Ottumwa JCC will be new construction, which will utilize a campus setting. The facility will consist of seven buildings, which will support approximately 300 resident students with 104 staff members. The proposed buildings include an administrative/wellness center/maintenance building, two dormitories, an educational/vocational building, a cafeteria/warehouse building, a student services/welcome center building and a recreation building. The proposed site also includes outdoor recreation fields and courts and associated paved parking areas and drives. The gross area of all of the proposed buildings will be approximately 150,000 square feet.

The proposed Ottumwa JCC is not expected to have any negative impact on the demographics of the surrounding neighborhoods. The proposed Ottumwa JCC is expected to have a positive impact on the lives of disadvantaged youths living in the Ottumwa and southeast Iowa areas. The purpose of the JCC is to provide basic education, vocational skills training, health care, and work experience, to allow disadvantaged persons from Ottumwa and surrounding communities to improve their position in the workplace and society. The goal of the JCC is to allow the disadvantaged to obtain a better education and to allow participants to reach a level of economic security above the poverty line. If these goals are reached, the JCC will have a positive impact by increasing the current educational and employment levels in the surrounding communities.

No proposed or listed endangered or threatened species, critical habitat or wetlands are known to exist within the proposed project area. The proposed project is not expected to have an adverse effect on any archaeological or historical properties since there are no documented historic or cultural sites within a one mile radius.

The JCC is also not expected to have an impact on the overall population numbers in the community based on the estimated 300 students that will live at the facility. City services, such as Police, Fire and Emergency Services will not expect additional stress to their current capabilities since these services are currently providing respective services to the area. Utility services, such as water, electric, gas and sanitary sewer, would be able to absorb the additional loads from the JCC with little to no impact. The development of the property will involve construction of new water, sanitary and storm sewer lines. The proposed JCC is not expected to have negative impacts on air quality in the area, since it does not involve industrial or commercial processes.

Temporary aesthetic impacts and minor noise impacts are anticipated during construction activities. Aesthetic impacts will be mitigated with the development of the property and the noise impacts will be short-termed and not significant.

The proposed Ottumwa JCC development is not expected to result in a significant increase in vehicular traffic, since many of the JCC students will either live in the dormitories or use public transportation. While some JCC students may use personal vehicles, the roadway infrastructure in the area is capable of absorbing the additional traffic.

Based on the information gathered during the preparation of the NEPA Environment Assessment, no environmental concerns were found to exist on the proposed JCC site other than the proposed site is considered “prime farmland” that is currently being used for row crop farming. Based on the size of the proposed development and the significant amount of defined prime farmland in the surrounding areas, the proposed development of the property is not considered a significant impact to the agricultural output for the area.

The alternatives considered in the preparation of this FONSI were as follows: (1) No Action; and (2) Continue Project as Proposed. The No Action alternative was not selected. The U.S. Department of Labor's goal of improving the Job Corps Program by improving the learning environment at Job Corps Centers would not be met under this alternative. Due to the suitability of the proposed site for establishment of a new Job Corps Center, and the absence of any identified significant adverse environmental impacts from locating a Job Corps Center on the subject property, the “Continue Project as Proposed” alternative was selected.

Based on the information gathered during the preparation of the EA, no environmental liabilities, current or historical, were found to exist on the proposed Job Corps Center site. The construction of the Job Corps Center at College Avenue and 6th Street, Ottumwa, Iowa will not create any significant adverse impacts on the environment.

Dated: January 28, 2008.
Esther R. Johnson,
National Director of Job Corps.

[FR Doc. E8-1871 Filed 1-31-08; 8:45 am]

BILLING CODE 4510-23-P